DEPARTMENT OF HOMELAND SECURITY

Federal Emergency Management Agency

[Docket ID FEMA-2019-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Arizona:
Maricopa (FEMA Docket No.: B-1850). | City of Chandler (18-09-0796P). | The Honorable Jay Tibshraeny, Mayor, City of Chandler, City Hall, 175 South Arizona Avenue, Chandler, AZ 85225. | Municipal Utilities Department, Administration, 975 East Armstrong Way, Building L, Chandler, AZ 85286. | Nov. 30, 2018 | 040040
Maricopa (FEMA Docket No.: B-1850). | City of Scottsdale (18-09-0983P). | The Honorable W.J. “Jim” Lane, Mayor, City of Scottsdale, City Hall, 3939 North Drinkwater Boulevard, Scottsdale, AZ 85251. | Planning Records, 7447 East Indian School Road, Suite 100, Scottsdale, AZ 85251. | Dec. 7, 2018 | 045012
Maricopa (FEMA Docket No.: B-1839). | Unincorporated Areas of Maricopa County (17-09-2756P). | The Honorable Steve Chucri, Chairman, Board of Supervisors, Maricopa County, 301 West Jefferson Street, 10th Floor, Phoenix, AZ 85003. | Flood Control District of Maricopa County, 2801 West Durango Street, Phoenix, AZ 85009. | Sep. 28, 2018 | 040037
Mohave (FEMA Docket No.: B-1844). | Town of Colorado City (18-09-1337X). | The Honorable Joseph Allred, Mayor, Town of Colorado City, P.O. Box 70, Colorado City, AZ 86021. | Town Hall, 25 South Central Street, Colorado City, AZ 86401. | Nov. 2, 2018 | 040059
Mohave (FEMA Docket No.: B-1844). | Unincorporated Areas of Mohave County (18-09-1337X). | The Honorable Gary Watson, Chairman, Board of Supervisors, Mohave County, 700 West Beale Street, Kingman, AZ 86402. | Mohave County Administration Building, 700 West Beale Street, Kingman, AZ 86402. | Nov. 2, 2018 | 040058
California:
Orange (FEMA Docket No.: B-1850). | City of Fullerton (17-09-2449P). | The Honorable Doug Chaffee, Mayor, City of Fullerton, 303 West Commonwealth Avenue, Fullerton, CA 92832. | City Hall, 303 West Commonwealth Avenue, Fullerton, CA 92832. | Nov. 30, 2018 | 060219
Orange (FEMA Docket No.: B-1850). | City of Fullerton (17-09-2450P). | The Honorable Doug Chaffee, Mayor, City of Fullerton, 303 West Commonwealth Avenue, Fullerton, CA 92832. | City Hall, 303 West Commonwealth Avenue, Fullerton, CA 92832. | Nov. 23, 2018 | 060219
Orange (FEMA Docket No.: B-1839). | City of Irvine (18-09-0287P). | The Honorable Donald P. Wagner, Mayor, City of Irvine, 1 Civic Center Plaza, Irvine, CA 92606. | City Hall, 1 Civic Center Plaza, Irvine, CA 92606. | Oct. 5, 2018 | 060222
Riverside (FEMA Docket No.: B-1844). | City of Riverside (18-09-0497P). | The Honorable Rusty Bailey, Mayor, City of Riverside, 3900 Main Street, Riverside, CA 92522. | Public Works Department, 3900 Main Street, 4th Floor, Riverside, CA 92522. | Oct. 22, 2018 | 060260
Riverside (FEMA Docket No.: B-1844). | Unincorporated Areas of Riverside County (18-09-0497P). | The Honorable Chuck Washington, Chairman, Board of Supervisors, Riverside County, 4080 Lemon Street, 5th Floor, Riverside, CA 92501. | Riverside County Flood Control and Water Conservation District, 1995 Market Street, Riverside, CA 92501. | Oct. 22, 2018 | 060245
Santa Clara (FEMA Docket No.: B-1839). | Town of Los Altos Hills (17-09-0578P). | The Honorable John Radford, Mayor, Town of Los Altos Hills, 26379 Fremont Road, Los Altos Hills, CA 94022. | Town Hall, 26379 Fremont Road, Los Altos Hills, CA 94022. | Oct. 9, 2018 | 060342
Solano (FEMA Docket No.: B-1846). | City of Fairfield (18-09-0734P). | The Honorable Harry T. Price, Mayor, City of Fairfield, City Hall, 1000 Webster Street, Fairfield, CA 94533. | Public Works Department, Engineering Division, 1000 Webster Street, Fairfield, CA 94533. | Nov. 20, 2018 | 060370
Solano (FEMA Docket No.: B-1846). | Unincorporated Areas of Solano County (18-09-0734P). | The Honorable Jim Spering, Chairman, Board of Supervisors, Solano County, 675 Texas Street, Suite 6500, Fairfield, CA 94533. | Solano County Public Works Department, 675 Texas Street, Suite 5500, Fairfield, CA 94533. | Nov. 20, 2018 | 060631
Ventura (FEMA Docket No.: B-1839). | City of Simi Valley (18-09-0442P). | The Honorable Bob Huber, Mayor, City of Simi Valley, 2929 Tapo Canyon Road, Simi Valley, CA 93063. | City Hall, 2929 Tapo Canyon Road, Simi Valley, CA 93063. | Sep. 27, 2018 | 060421
Florida:
Bay (FEMA Docket No.: B-1850). | Unincorporated Areas of Bay County (18-04-2878P). | Mr. Robert Majka, Jr., County Manager, Bay County, 840 West 11th Street, Panama City, FL 32401. | Bay County Planning and Zoning, 707 Jenks Avenue, Suite B, Panama City, FL 32401. | Nov. 28, 2018 | 120004
Duval (FEMA Docket No.: B-1839). | City of Jacksonville (18-04-0586P). | The Honorable Lenny Curry, Mayor, City of Jacksonville, 117 West Duval Street, Suite 400, Jacksonville, FL 32202. | City Hall, 117 West Duval Street, Jacksonville, FL 32202. | Sep. 21, 2018 | 120077
St. Johns (FEMA Docket No.: B-1839). | Unincorporated Areas of St. Johns County (18-04-0875P). | The Honorable Henry Dean, Chairman, St. Johns County Board of Commissioners, 500 San Sebastian View, St. Augustine, FL 32084. | St. Johns County Administration Building, 4020 Lewis Speedway, St. Augustine, FL 32084. | Oct. 4, 2018 | 125147
St. Johns (FEMA Docket No.: B-1839). | Unincorporated Areas of St. Johns County (18-04-2412P). | The Honorable Henry Dean, Chairman, St. Johns County Board of Commissioners, 500 San Sebastian View, St. Augustine, FL 32084. | St. Johns County Administration Building, 4020 Lewis Speedway, St. Augustine, FL 32084. | Oct. 5, 2018 | 125147
Hawaii: Honolulu (FEMA Docket No.: B-1844). | City and County of Honolulu (18-09-1196P). | The Honorable Kirk Caldwell, Mayor, City and County of Honolulu, 530 South King Street, Room 300, Honolulu, HI 96813. | Department of Planning and Permitting, 650 South King Street, Honolulu, HI 96813. | Oct. 30, 2018 | 150001
Idaho:
Ada (FEMA Docket No.: B-1846). | City of Meridian (18-10-0001P). | The Honorable Tammy de Weerd, Mayor, City of Meridian City Hall, 33 East Broadway Avenue, Suite 300, Meridian, ID 83642. | Public Works Department, 33 East Broadway Avenue, Suite 200, Meridian, ID 83642. | Nov. 2, 2018 | 160180
Ada (FEMA Docket No.: B-1846). | Unincorporated Areas of Ada County (18-10-0001P). | The Honorable David L. Case, Chairman, Ada County Board of Commissioners, 200 West Front Street, 3rd Floor, Boise, ID 83702. | Ada County Courthouse, 200 West Front Street, Boise, ID 83702. | Nov. 2, 2018 | 160001
Illinois:
Cook (FEMA Docket No.: B-1850). | City of Chicago (17-05-6422P). | The Honorable Rahm Emanuel, Mayor, City of Chicago, 121 North LaSalle Street, Room 406, Chicago, IL 60602. | Department of Buildings, Stormwater Management, 121 North LaSalle Street, Room 906, Chicago, IL 60602. | Dec. 7, 2018 | 170074
Cook (FEMA Docket No.: B-1844). | Village of Flossmoor (18-05-2185P). | The Honorable Paul Braun, Mayor, Village of Flossmoor, 2800 Flossmoor Road, Flossmoor, IL 60422. | Public Works Service Center, 1700 Central Park Avenue, Flossmoor, IL 60422. | Oct. 26, 2018 | 170091
Cook (FEMA Docket No.: B-1850). | Village of Franklin Park (17-05-6422P). | The Honorable Barrett F. Pedersen, Village President, Village of Franklin Park, 9500 Belmont Avenue, Franklin Park, IL 60131. | Village Hall, 9500 Belmont Avenue, Franklin Park, IL 60131. | Dec. 7, 2018 | 170094
Cook (FEMA Docket No.: B-1844). | Village of Homewood (18-05-2185P). | The Honorable Richard Hofeld, Mayor, Village of Homewood, 2020 Chestnut Road, Homewood, IL 60430. | Public Works, 17755 South Ashland Avenue, Homewood, IL 60430. | Oct. 26, 2018 | 170109
Cook (FEMA Docket No.: B-1850). | Village of Schiller Park (17-05-6422P). | The Honorable Nick Caiafa, Mayor, Village of Schiller Park, 9526 West Irving Park Road, Schiller Park, IL 60176. | Village Hall, 9526 West Irving Park Road, Schiller Park, IL 60176. | Dec. 7, 2018 | 170159
Peoria (FEMA Docket No.: B-1850). | City of Peoria (18-05-3106P). | The Honorable Jim Ardis, Mayor, City of Peoria, 419 Fulton Street, Suite 401, Peoria, IL 61602. | Public Works Department, 3505 North Dries Lane, Peoria, IL 61604. | Nov. 30, 2018 | 170536
Indiana:
Lake (FEMA Docket No.: B-1846). | City of Hammond (18-05-0313P). | The Honorable Thomas M. McDermott, Jr., Mayor, City of Hammond, City Hall, 2nd Floor, 5925 Calumet Avenue, Hammond, IN 46320. | City Hall, 5925 Calumet Avenue, Hammond, IN 46320. | Nov. 14, 2018 | 180134
Lake (FEMA Docket No.: B-1846). | Town of Munster (18-05-0313P). | President, Lee Ann Mellon, Town of Munster, 1005 Ridge Road, Munster, IN 46321. | Town Hall, 1005 Ridge Road, Munster, IN 46321. | Nov. 14, 2018 | 180139
Iowa:
Black Hawk (FEMA Docket No.: B-1850). | City of Waterloo (18-07-0911P). | The Honorable Quentin M. Hart, Mayor, City of Waterloo, City Hall, 715 Mulberry Street, Waterloo, IA 50703. | City Hall, 715 Mulberry Street, Waterloo, IA 50703. | Nov. 28, 2018 | 190025
Polk (FEMA Docket No.: B-1850). | City of West Des Moines (18-07-0853P). | The Honorable Steven K. Gaer, Mayor, City of West, Des Moines, City Hall, P.O. Box 65320, West Des Moines, IA 50265. | City Hall, 4200 Mills Civic Parkway, West Des Moines, IA 50265. | Dec. 7, 2018 | 190231
Kansas: Johnson (FEMA Docket No.: B-1846). | City of Olathe (18-07-0607P). | The Honorable Michael Copeland, Mayor, City of Olathe, 100 East Santa Fe Street, Olathe, KS 66061. | City Hall, Planning Office, 100 East Santa Fe Street, 3rd Floor, Olathe, KS 66061. | Oct. 26, 2018 | 200173
Massachusetts: Middlesex (FEMA Docket No.: B-1850). | City of Melrose (18-01-0626P). | The Honorable Gail Infurna, Mayor, City of Melrose, City Hall, 562 Main Street, Melrose, MA 02176. | City Hall, 562 Main Street, Melrose, MA 02176. | Dec. 3, 2018 | 250206
Minnesota: Olmsted (FEMA Docket No.: B-1844). | City of Rochester (18-05-0869P). | The Honorable Ardell F. Brede, Mayor, City of Rochester, City Hall, 201 4th Street Southeast, Room 281, Rochester, MN 55904. | City Hall, 201 4th Street Southeast, Rochester, MN 55904. | Oct. 18, 2018 | 275246
Missouri: Scott (FEMA Docket No.: B-1839). | City of Scott City (18-07-0675P). | The Honorable Ron Cummins, Mayor, City of Scott City, 215 Chester Avenue, Scott City, MO 63780. | City Hall, 215 Chester Avenue, Scott City, MO 63780. | Oct. 3, 2018 | 290414
Nebraska: Washington (FEMA Docket No.: B-1850). | City of Blair (18-07-0575P). | The Honorable James Realph, Mayor, City of Blair, 2532 College Drive, Blair, NE 68008. | City Hall, 218 South 16th Street, Blair, NE 68008. | Nov. 26, 2018 | 310228
Nevada:
Clark (FEMA Docket No.: B-1839). | City of Las Vegas (18-09-1058P). | The Honorable Carolyn G. Goodman, Mayor, City of Las Vegas, City Hall, 495 South Main Street, Las Vegas, NV 89101. | Public Works Department, 400 Stewart Avenue, 4th Floor, Las Vegas, NV 89101. | Oct. 5, 2018 | 325276
Clark (FEMA Docket No.: B-1844). | Unincorporated Areas of Clark County (18-09-0773P). | The Honorable Steve Sisolak, Chairman, Board of Commissioners, Clark County, 500 South Grand Central Parkway, 6th Floor, Las Vegas, NV 89106. | Clark County, Office of the Director of Public Works, 500 South Grand Central Parkway, Las Vegas, NV 89155. | Oct. 18, 2018 | 320003
Washoe (FEMA Docket No.: B-1846). | City of Sparks (18-09-0662P). | The Honorable Geno Martini, Mayor, City of Sparks, P.O. Box 857, Sparks, NV 89432. | City Hall, 431 Prater Way, Sparks, NV 89431. | Nov. 13, 2018 | 320021
Ohio:
Fairfield (FEMA Docket No.: B-1850). | City of Lancaster (18-05-0226P). | The Honorable David S. Smith, Mayor, City of Lancaster, 104 East Main Street, Room 101, Lancaster, OH 43130. | Municipal Building, 121 East Chestnut Street, Suite 100, Lancaster, OH 43130. | Nov. 20, 2018 | 390161
Fairfield (FEMA Docket No.: B-1850). | Unincorporated Areas of Fairfield County (18-05-0226P). | The Honorable Dave Levacy, Chairman, Fairfield County Board of Commissioners, 210 East Main Street, Room 301, Lancaster, OH 43130. | Fairfield County, Regional Planning Commission, 210 East Main Street, Room 104, Lancaster, OH 43130. | Nov. 20, 2018 | 390158
Lucas (FEMA Docket No.: B-1850). | City of Toledo (18-05-2876P). | The Honorable Wade Kapszukiewicz, Mayor, City of Toledo, 1 Government Center, 640 Jackson Street, Suite 2200, Toledo, OH 43604. | Department of Inspections, 1 Government Center, Suite 1600, Toledo, OH 43604. | Nov. 30, 2018 | 395373
Oregon:
Clatsop (FEMA Docket No.: B-1839). | City of Seaside (18-10-0563P). | The Honorable Jay Barber, Mayor, City of Seaside, City Hall, 989 Broadway, Seaside, OR 97138. | City Hall, 989 Broadway, Seaside, OR 27138. | Sep. 24, 2018 | 410032
Clatsop (FEMA Docket No.: B-1839). | Unincorporated Areas of Clatsop County (18-10-0563P). | Mr. Scott Lee, Chair, Clatsop County Board of Commissioners, County Government Offices, 800 Exchange Street, Suite 410, Astoria, OR 97103. | Clatsop County, County Government Offices, 800 Exchange Street, Suite 410, Astoria, OR 97103. | Sep. 24, 2018 | 410027
Multnomah (FEMA Docket No.: B-1844). | City of Portland (18-10-0454P). | The Honorable Ted Wheeler, Mayor, City of Portland, 1221 Southwest 4th Avenue, Room 340, Portland, OR 97204. | Bureau of Environmental Services, 1221 Southwest 4th Avenue, Room 230, Portland, OR 97204. | Nov. 2, 2018 | 410183
Virginia: Roanoke (FEMA Docket No.: B-1844). | City of Roanoke (18-03-0502P). | The Honorable Sherman P. Lea, Sr., Mayor, City of Roanoke, 215 Church Avenue Southwest, Room 456, Roanoke, VA 24011. | Engineering Department, Municipal Building, 215 Church Avenue, Roanoke, VA 24011. | Oct. 11, 2018 | 510130
Wisconsin: Dane, FEMA Docket No.: B-1844). | City of Verona (18-05-0637P). | The Honorable Luke Diaz, Mayor, City of Verona, Verona City Center, 111 Lincoln Street, Verona, WI 53593. | City Hall, 111 Lincoln Street, Verona, WI 53593. | Oct. 5, 2018 | 550092

[FR Doc. 2019-03373 Filed 2-26-19; 8:45 am]

BILLING CODE 9110-12-P